DEPARTMENT OF COMMERCE

International Trade Administration

[C-570-980]

Crystalline Silicon Photovoltaic Cells, Whether or Not Assembled Into Modules, From the People's Republic of China: Final Results of Countervailing Duty Administrative Review; 2015

AGENCY: Enforcement and Compliance, International Trade Administration, Department of Commerce.

SUMMARY: The Department of Commerce (Commerce) determines that Canadian Solar Inc. and its cross-owned affiliates (collectively, Canadian Solar) and Changzhou Trina Solar Energy Co., Ltd. and its cross-owned affiliates (collectively, Trina Solar), exporters/producers of crystalline silicon photovoltaic cells, whether or not assembled into modules (solar cells), from the People's Republic of China (China), received countervailable subsidies during the period of review (POR) January 1, 2015, through December 31, 2015.

DATES: Applicable July 23, 2018.

FOR FURTHER INFORMATION CONTACT: Gene H. Calvert, AD/CVD Operations, Office VII, Enforcement and Compliance, International Trade Administration, U.S. Department of Commerce, 1401 Constitution Avenue NW, Washington, DC 20230; telephone; (202) 482-3586.

SUPPLEMENTARY INFORMATION:

Background

Commerce published the Preliminary Results of this administrative review on January 10, 2018.¹ We invited interested parties to comment on the Preliminary Results. On March 5, 2018, we received timely case briefs from the following interested parties: SolarWorld Americas Inc. (the petitioner), the Government of China (GOC), Canadian Solar, and Trina Solar.² On March 12, 2018, we received timely rebuttal comments from the petitioner; the GOC; Canadian Solar; Trina Solar; and Sumec Hardware & Tools Co., Ltd. (Sumec).³

¹ See Crystalline Silicon Photovoltaic Cells, Whether or Not Assembled Into Modules, from the People's Republic of China: Preliminary Results of Countervailing Duty Administrative Review, and Rescission of Review, in Part; 2015, 83 FR 1235 (January 10, 2018) (Preliminary Results) and accompanying Preliminary Decision Memorandum.

² See Letter from the petitioner, “Certain Crystalline Silicon Photovoltaic Cells, Whether or Not Assembled Into Modules, from the People's Republic of China; Case Brief of SolarWorld Americas, Inc.,” dated March 5, 2018 (Petitioner's Case Brief); Letter from the GOC, “GOC Administrative Case Brief: Fourth Administrative Review of the Countervailing Duty Order on Crystalline Silicon Photovoltaic Cells, Whether or not Assembled into Modules from the People's Republic of China (C-570-980),” dated March 5, 2018 (GOC's Case Brief); Letter from Canadian Solar, “Administrative Review of the Countervailing Duty Order on Crystalline Silicon Photovoltaic Cells, Whether Or Not Assembled into Modules from the People's Republic of China: Case Brief,” dated March 5, 2018 (Canadian Solar's Case Brief); and Letter from Trina Solar, “Crystalline Silicon Photovoltaic Cells, Whether or Not Assembled Into Modules from the People's Republic of China: Case Brief,” dated March 5, 2018 (Trina Solar's Case Brief).

³ See Letter from the petitioner, “Crystalline Silicon Photovoltaic Cells, Whether or Not Assembled Into Modules, from the People's Republic of China: Rebuttal Brief of SolarWorld Americas, Inc.,” dated March 12, 2018. (Petitioner's Rebuttal Brief); Letter from the GOC, “GOC Rebuttal Brief: Fourth Administrative Review of the Countervailing Duty Order on Crystalline Silicon Photovoltaic Cells, Whether or not Assembled into Modules from the People's Republic of China (C-570-980),” dated March 12, 2018 (GOC's Rebuttal Brief); Letter from Canadian Solar, “Administrative Review of the Countervailing Duty order on Crystalline Silicon Photovoltaic Cells, Whether or Not Assembled in Modules from the People's Republic of China: Rebuttal Case Brief,” dated March 12, 2018. (Canadian Solar's Rebuttal Brief); Letter from Trina Solar, ”Crystalline Silicon Photovoltaic Cells, Whether or Not Assembled Into Modules from the People's Republic of China: Rebuttal Brief,” dated March 12, 2018 (Trina Solar's Rebuttal Brief); and Letter from Sumec, “SHTC Letter in Lieu of Rebuttal Brief: Administrative Review of the Countervailing Duty Order on Crystalline Silicon Photovoltaic Cells, Whether or not Assembled into Modules from the People's Republic of China,” dated March 12, 2018. In its letter, Sumec submits that Commerce should adopt the positions put forward in the case and rebuttal briefs submitted by Canadian Solar and Trina Solar.

Commerce exercised its discretion to toll all deadlines affected by the closure of the Federal Government from January 20 through January 22, 2018.⁴ As a result, all deadlines in this segment of the proceeding have been extended by three days. On May 11, 2018, we extended the deadline for issuing the final results of this administrative review by 45 days, to June 27, 2018.⁵ On June 21, 2018, we extended the period for issuing the final results by an additional 15 days, to July 12, 2018.⁶

⁴ See Memorandum, “Deadlines Affected by the Shutdown of the Federal Government,” dated January 23, 2018.

⁵ See Memorandum, “Crystalline Silicon Photovoltaic Cells, Whether or Not Assembled Into Modules, from the People's Republic of China: Extension of Deadline for Final Results of 2015 Countervailing Duty Administrative Review,” dated May 11, 2018.

⁶ See Memorandum, “Crystalline Silicon Photovoltaic Cells, Whether or Not Assembled Into Modules, from the People's Republic of China: Section Extension of Deadline for Final Results of 2015 Countervailing Duty Administrative Review,” dated June 21, 2018.

Scope of the Order

The products covered by the order are solar cells from China. A full description of the scope of the order is contained in the Issues and Decision Memorandum, which is hereby adopted by this notice.⁷

⁷ See Memorandum, “Decision Memorandum for the Final Results of Countervailing Duty Administrative Review: Crystalline Silicon Photovoltaic Cells, Whether or Not Assembled Into Modules, from the People's Republic of China; 2015,” dated concurrently with this notice (Issues and Decision Memorandum).

Analysis of Comments Received

All issues raised in interested parties' briefs are listed in the Appendix to this notice and are addressed in the Issues and Decision Memorandum. The Issues and Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Issues and Decision Memorandum can be accessed directly at http://enforcement.trade.gov/frn. The signed Issues and Decision Memorandum and the electronic version of the Issues and Decision Memorandum are identical in content.

Changes Since the Preliminary Results

Based on case briefs, rebuttal briefs, and all supporting documentation, we made changes from the Preliminary Results. For the final results, we are relying solely on Maersk ocean freight prices to value international freight when constructing our benchmarks for measuring the adequacy of remuneration for the company respondents' input purchases. We also corrected certain clerical errors made in our calculations.⁸

⁸ See the Issues and Decision Memorandum for a full discussion of the changes made since the Preliminary Results.

Methodology

Commerce conducted this review in accordance with section 751(a)(1)(A) of the Tariff Act of 1930, as mended (the Act). For each of the subsidy programs found to be countervailable, we find that there is a subsidy, i.e., a financial contribution from a government or public entity that gives rise to a benefit to the recipient, and that the subsidy is specific.⁹ For a full description of the methodology underlying all of Commerce's conclusions, including any determination that relied upon the use of facts available pursuant to sections 776(a) and (b) of the Act, see the Issues and Decision Memorandum.

⁹ See section 771(5)(B) and (D) of the Act regarding financial contribution; section 771(5)(E) of the Act regarding benefit; and section 771(5A) of the Act regarding specificity.

Final Results of Administrative Review

In accordance with section 777A(e) of the Act and 19 CFR 351.221(b)(5), we calculated a countervailable subsidy rate for the two mandatory respondents, Canadian Solar and Trina Solar. For the non-selected companies subject to this review, we followed out practice, which is to base the subsidy rates on an average of the subsidy rates calculated for those companies selected for individual review, excluding de minimis rates or rates based entirely on adverse facts available.¹⁰ In this case, for the non-selected companies, we calculated a rate by weight-averaging the calculated subsidy rates of the two mandatory respondents using their publicly-ranged sales data for exports of subject merchandise to the United States during the POR. We find the countervailable subsidy rates for the producers/exporters under review to be as follows:

¹⁰ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010); see also Issues and Decision Memorandum at the section, “Non-Selected Companies Under Review.”

Producer/exporter | Subsidy rate (percent ad valorem)
Canadian Solar and its Cross-Owned Affiliates ¹¹ | 14.34
Trina Solar and its Cross-Owned Affiliates ¹² | 11.39

Review-Specific Average Rate Applicable to the Non-Selected Companies Subject to this Review:

¹¹ Cross-owned affiliates are: Canadian Solar Inc.; Canadian Solar Manufacturing (Luoyang) Inc.; Canadian Solar Manufacturing (Changshu) Inc.; CSI Cells Co., Ltd.; CSI Solar Power (China) Inc.; CSI Solartronics (Changshu) Co., Ltd.; CSI Solar Technologies Inc.; CSI Solar Manufacture Inc. (name was changed to CSI New Energy Holding Co., Ltd. in July 2015); CSI-GCL Solar Manufacturing (Yancheng) Co., Ltd.; Changshu Tegu New Materials Technology Co., Ltd.; Changshu Tlian Co., Ltd.; and Suzhou Sanysolar Materials Technology Co., Ltd. See Preliminary Decision Memorandum.

¹² Cross-owned affiliates are: Changzhou Trina Solar Energy Co., Ltd.; Trina Solar (Changzhou) Science and Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd.

Producer/exporter | Subsidy rate (percent ad valorem)
Baoding Jiasheng Photovoltaic Technology Co., Ltd | 13.20
Baoding Tianwei Yingli New Energy Resources Co., Ltd | 13.20
Beijing Tianneng Yingli New Energy Resources Co., Ltd | 13.20
Canadian Solar International, Ltd | 13.20
Chint Solar (Zhejiang) Co., Ltd | 13.20
Dongguan Sunworth Solar Energy Co., Ltd | 13.20
ERA Solar Co., Ltd | 13.20
ET Solar Energy Limited | 13.20
ET Solar Industry Limited | 13.20
Hainan Yingli New Energy Resources Co., Ltd | 13.20
Hangzhou Sunny Energy Science and Technology Co., Ltd | 13.20
Hangzhou Zhejiang University Sunny Energy Science and Technology Co., Ltd | 13.20
Hengdian Group DMEGC Magnetics Co., Ltd | 13.20
Hengshui Yingli New Energy Resources Co., Ltd | 13.20
JA Solar Technology Yangzhou Co., Ltd | 13.20
Jiangsu High Hope Int'l Group | 13.20
Jiawei Solarchina Co., Ltd | 13.20
Jiawei Solarchina (Shenzhen) Co., Ltd | 13.20
JingAo Solar Co., Ltd | 13.20
Jinko Solar Co., Ltd | 13.20
Jinko Solar Import and Export Co., Ltd | 13.20
Jinko Solar International Limited | 13.20
Jinko Solar (U.S.) Inc | 13.20
Lightway Green New Energy Co., Ltd | 13.20
Lixian Yingli New Energy Resources Co., Ltd | 13.20
Luoyang Suntech Power Co., Ltd | 13.20
Ningbo Qixin Solar Electrical Appliance Co., Ltd | 13.20
Risen Energy Co., Ltd | 13.20
Shanghai JA Solar Technology Co., Ltd | 13.20
Shenzhen Glory Industries Co., Ltd | 13.20
Shenzhen Topray Solar Co., Ltd | 13.20
Sumec Hardware & Tools Co. Ltd | 13.20
Systemes Versilis, Inc | 13.20
Taizhou BD Trade Co., Ltd | 13.20
tenKsolar (Shanghai) Co., Ltd | 13.20
Tianjin Yingli New Energy Resources Co., Ltd | 13.20
Toenergy Technology Hangzhou Co., Ltd | 13.20
Wuxi Suntech Power Co., Ltd | 13.20
Yingli Energy (China) Co., Ltd | 13.20
Zhejiang Era Solar Technology Co., Ltd | 13.20
Zhejiang Jinko Solar Co., Ltd | 13.20
Zhejiang Sunflower Light Energy Science & Technology Limited Liability Company | 13.20

Disclosure

We will disclose to the parties in this proceeding the calculations performed for these final results within five days of publication of this notice in the Federal Register.¹³

¹³ See 19 CFR 351.224(b).

Assessment Rates

Consistent with 19 CFR 351.212(b)(2), we intend to issue assessment instructions to U.S. Customs and Border Protection (CBP) 15 days after the date of publication of these final results of review, to liquidate shipments of subject merchandise produced and/or exported by the companies listed above, entered, or withdrawn from warehouse, for consumption on or after January 1, 2015, through December 31, 2015, at the ad valorem rates listed above.

Cash Deposit Instructions

In accordance with section 751(a)(1) of the Act, we intend to instruct CBP to collect cash deposits of estimated countervailing duties in the amounts shown for each of the respective companies listed above. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations of an APO is an sanctionable violation.

We are issuing and publishing these final results in accordance with sections 751(a)(1) and 777(i)(1) of the Act.

Dated: July 12, 2018.
Gary Taverman,
Deputy Assistant Secretary for Antidumping and Countervailing Duty Operations, performing the non-exclusive functions and duties of the Assistant Secretary for Enforcement and Compliance.

Appendix—Issues and Decision Memorandum

I. Summary

II. Background

III. List of Interested Party Comments

IV. Scope of the Order

V. Changes Since the Preliminary Results

VI. Non-Selected Companies Under Review

VII. Subsidies Valuation Information

VIII. Use of Facts Available and Adverse Inferences

IX. Programs Determined to be Countervailable

X. Program Determined to be Not Countervailable During the POR

XI. Programs Determined to be Not Used or Not To Confer a Measurable Benefit During the POR

XII. Analysis of Comments

XIII. Conclusion

[FR Doc. 2018-15692 Filed 7-20-18; 8:45 am]

BILLING CODE 3510-DS-P